DEPARTMENT OF HEALTH AND HUMAN SERVICES

Health Resources and Services Administration

Agency Information Collection Activities: Proposed Collection: Public Comment Request; Information Collection Request Title: National Survey of Organ Donation Attitudes and Practices, OMB No. 0915-0290—Extension

AGENCY: Health Resources and Services Administration (HRSA), Department of Health and Human Services.

ACTION: Notice.

SUMMARY: In compliance with the Paperwork Reduction Act of 1995, HRSA announces plans to submit an Information Collection Request (ICR), described below, to the Office of Management and Budget (OMB). Prior to submitting the ICR to OMB, HRSA seeks comments from the public regarding the burden estimate below or any other aspect of the ICR.

DATES: Comments on this ICR should be received no later than June 18, 2021.

ADDRESSES: Submit your comments to paperwork@hrsa.gov or mail the HRSA Information Collection Clearance Officer, 14N136B, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference.

Information Collection Request Title: National Survey of Organ Donation Attitudes and Practices, OMB No. 0915-0290—Extension.

Abstract: HRSA is requesting approval by OMB for a revision of a previously approved collection of information (OMB control number 0915-0290). The National Survey of Organ Donation Attitudes and Practices (NSODAP) is conducted approximately every 6-7 years and serves a critical role in providing HRSA and the donation community with data regarding why Americans choose to donate organs, current barriers to donation, and possible paths to increasing donations. Survey data and derived analytic insights help HRSA develop and target appropriate messages for public outreach and educational initiatives.

Need and Proposed Use of the Information: HRSA is the primary federal entity responsible for oversight of the solid organ and blood stem cell transplant systems and initiatives to increase organ donor registration and donation in the United States. This survey is the primary method by which HRSA can obtain information from Americans about organ donation attitudes and beliefs. OMB previously approved this survey and HRSA fielded it during 2005, 2012, and 2019. Results of the data collected from this survey will help develop appropriate messages for future public outreach and educational initiatives to increase awareness about organ donation and ultimately the number of registered donors.

Likely Respondents: A nationally representative sample of adults over the age of 18 with a higher number of responses from populations of interest such as racial-ethnic minorities, including African American, Asian, Native American, and Hispanic respondents, as well as respondents of all age groups and education levels.

Burden Statement: Burden in this context means the time expended by persons to generate, maintain, retain, disclose, or provide the information requested. This includes the time needed to review instructions; to develop, acquire, install, and utilize technology and systems for collecting, validating, verifying, processing and maintaining information, and disclosing and providing information; to train personnel and be able to respond to a collection of information; to search data sources; to complete and review the collection of information, and to transmit or otherwise disclose the information. A summary of the total annual burden hours estimated for this ICR is in the table below.

Total Estimated Annualized Burden Hours
Form name | Number of respondents | Number of responses per respondent | Total responses | Average burden per response (in hours) | Total burden hours
NSODAP Revised Survey—Telephone | 2,000 | 1 | 2,000 | 0.37 | 740
NSODAP Revised Survey—Online Panel | 8,000 | 1 | 8,000 | 0.27 | 2,160
Total | 10,000 |  | 10,000 |  | 2,900

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2021-07996 Filed 4-16-21; 8:45 am]

BILLING CODE 4165-15-P